DEPARTMENT OF EDUCATION

Applications for New Awards; Ready to Learn Programming

AGENCY: Office of Elementary and Secondary Education, Department of Education.

ACTION: Notice.

SUMMARY: The Department of Education (Department) is issuing a notice inviting applications for fiscal year (FY) 2020 for Ready to Learn Programming, Catalog of Federal Domestic Assistance (CFDA) number 84.295A. This notice relates to the approved information collection under OMB control number 1894-0006.

DATES:

Applications Available: March 16, 2020.

Deadline for Notice of Intent to Apply: April 6, 2020.

Pre-Application Webinar Information: No later than March 23, 2020, the Office of Elementary and Secondary Education (OESE) will post an informational webinar on the Ready to Learn Programming website at oese.ed.gov/offices/office-of-discretionary-grants-support-services/innovation-early-learning/ready-to-learn-television-rtl/.

Deadline for Transmittal of Applications: May 15, 2020.

Deadline for Intergovernmental Review: July 14, 2020.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Brian Lekander, U.S. Department of Education, 400 Maryland Avenue SW, Room 3E334, Washington, DC 20202-5930. Telephone: (202) 205-5633. Email: readytolearn@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of Ready to Learn Programming is to promote school readiness through the development and dissemination of accessible instructional programming for preschool and elementary school children and their families.

Background:Ready to Learn Programming (Ready to Learn) aims to take advantage of television and other common mass media consumer technologies in order to reach children in low-income homes who may be lacking in educationally rich learning opportunities and make it easier for parents, caregivers, and early learning providers to find trustworthy materials that they can use with the children in their care.

Ready to Learn accomplishes this by using Federal dollars to stimulate the creation of educational media content that meets the highest standards of educational quality, while aiming to be just as entertaining as the best commercially produced media programs. Ready to Learn brings educators and media producers together in cooperative working relationships that would not otherwise be possible, while also using the Federal investment to leverage additional contributions in funding, talent, and resources.

To succeed, media producers generally must depart from their normal ways of working and embrace the contributions of educators and other education experts. Experts in subject matter and pedagogy, instructional designers, formative researchers, and other educators will work alongside and on equal footing with creative and media production experts in areas such as storytelling and interactive gameplay in order to merge their contributions into a unified and integrated effort.

Typically, Ready to Learn television and digital media products work best when they are based on developmentally appropriate curriculum frameworks that align with widely accepted learning standards. In prior competitions, Ready to Learn has focused on learning in subjects such as math, science, and literacy. This year we invite applicants to introduce young learners to future career and workforce options through a curriculum based on the education or skills they will need for those careers. We also invite applicants to explore areas of literacy education that would be new to Ready to Learn and that would go beyond the program's traditional focus on vocabulary and pre-reading skills.

Building upon the two previous Ready to Learn grant competitions in 2010 and 2015, in which Ready to Learn supported the development of educational “transmedia,” we are again looking to create new, interrelated combinations of television and interactive media in which characters, narrative story lines, and problem-solving are used to connect the various media products. In order to make this work, producers may need to plan how their different products will work together cohesively, and then build a production model accordingly. Furthermore, producers may need to think carefully about how the eventual distribution of the products will be sequenced and organized to ensure that users will experience them in a manner that best promotes learning.

Striking the right balance between innovation and access is key. Technologies are constantly changing, and with them come new opportunities for improving young children's learning. Ready to Learn seeks to take advantage of these opportunities to reach young children and their parents or caregivers in new ways. However, low-income children or families may not always have the latest technologies available to them in their homes or communities. As a result, producers need to make careful and thoughtful choices to ensure that their innovations can be widely adopted.

Additionally, it is important to think about users with disabilities. Although the television programming created under Ready to Learn has generally been made accessible to users who have hearing or vision loss through captioning and video description, it can be challenging to include appropriate accessibility features in digital media because of the rapid changes in technology. In such cases, Ready to Learn grantees should aim to lead in the development of new approaches to promote accessibility. This is necessary both for purposes of complying with Section 504 of the Rehabilitation Act of 1973 and to ensure that the needs of all users, including those with disabilities, are addressed.

Another critical issue is the national distribution of Ready to Learn television and digital media products. In the past, the Department has generally assumed that if Ready to Learn grantees created high-quality products, national distribution deals would follow—usually through the existing infrastructure of the public television system. But the range of media available to producers has expanded beyond broadcast or cable television and websites to include national video streaming, applications for tablets and smartphones, game platforms, social media, and other technologies. Contemporary users also desire the ability to move freely between devices.

Therefore, in this competition we are encouraging applicants to consider and plan for distribution much earlier in the life of their proposed projects, and to directly partner with those broadcasters, streamers, game companies, publishers, or others that will be integral to ensure that the media is widely available to all users nationwide and will reflect both the creative and educational vision that went into its design.

Historically, Ready to Learn has also required grantees to develop and implement outreach programs in culturally diverse local communities. This year, we continue this focus by encouraging applicants to partner with both local and national organizations that promote wider use of the educational media materials in homes, daycare facilities, museums, and libraries, and a variety of other informal learning and school-based settings. We therefore encourage the creation of supplemental materials for teachers, parents, and caregivers or guardians to use in these settings. We also encourage the development of both local and virtual user communities to share information, model effective practices, and promote dissemination.

Throughout this process, conducting research is essential in several ways. First, when formative research is conducted during the production process, it can help to ensure that users are responding appropriately to design elements and are learning in the ways that are anticipated and intended. Second, research can be used to determine the effectiveness of the media products in helping young children learn or improve their school readiness. Finally, the use of data analytics can help researchers learn more about the pathways users are taking through digital media, and as a result, they can learn more about which elements and design decisions are contributing to learning effectiveness and why.

Because of the importance of research to the success of projects, Ready to Learn encourages applicants to enlist independent researchers to conduct at least one rigorous study of the effectiveness of Ready to Learn produced media when used in either the home or informal learning settings that will meet the What Works Clearinghouse Evidence Standards found in the What Works Clearinghouse Handbook (as defined in this notice); and to use analytics to conduct studies that will increase our understanding of how to design effective educational media. Careful thought should be given to the appropriate audiences for the results of these studies—whether it be other researchers, the general public, or other media producers—and efforts should be made to disseminate the results accordingly.

Application Requirements:Under section 4643 of the Elementary and Secondary Education Act of 1965, as amended (ESEA), to be eligible to receive a cooperative agreement under Ready to Learn, an eligible entity must include in its application—

(1) A description of the activities to be carried out under this section;

(2) A list of the types of entities with which such entity will enter into contracts under section 4643(a)(1)(B)(iv) of the ESEA;

(3) A description of the activities the entity will undertake widely to disseminate the content developed under this section; and

(4) A description of how the entity will comply with section 4643(a)(2) of the ESEA.

Program Requirements:Under section 4643 of the ESEA, awards made under Ready to Learn must be used to—

(1) Develop, produce, and distribute educational and instructional video programming for preschool and elementary school children and their parents in order to facilitate student academic achievement;

(2) Facilitate the development, directly or through contracts with producers of children and family educational television programming, of educational programming for preschool and elementary school children, and the accompanying support materials and services that promote the effective use of such programming;

(3) Facilitate the development of programming and digital content containing Ready to Learn-based children's programming and resources for parents and caregivers that is specially designed for nationwide distribution over public television stations' digital broadcasting channels and the internet;

(4) Contract with entities (such as public telecommunications entities) so that programming developed under this program is disseminated and distributed to the widest possible audience appropriate to be served by the programming, and through the use of the most appropriate distribution technologies; and

(5) Develop and disseminate education and training materials, including interactive programs and programs adaptable to distance learning technologies, that are designed—

(i) To promote school readiness; and

(ii) To promote the effective use of materials developed under paragraphs (2) and (3) among parents, teachers, Head Start providers, providers of family literacy services, child care providers, early childhood educators, elementary school teachers, public libraries, and after-school program personnel caring for preschool and elementary school children.

Note: Under section 4643 of the ESEA, not less than 60 percent of the amount appropriated under the above statutory requirements for each fiscal year may be used to carry out activities under paragraphs (2) through (4) above.

Administrative Costs: Under section 4643 of the ESEA, an entity that receives a grant, contract, or cooperative agreement under this section may use up to 5 percent of the amount received under the grant, contract, or agreement for the normal and customary expenses of administering the grant, contract, or agreement. This limit applies to the total of indirect costs and direct administrative costs claimed by the grantee.

Priorities: Under this competition we are particularly interested in applications that address the following priorities.

Invitational Priorities: For FY 2020 and any subsequent year in which we make awards from the list of unfunded applications from this competition, these priorities are invitational priorities. Under 34 CFR 75.105(c)(1) we do not give an application that meets these invitational priorities a competitive or absolute preference over other applications.

These priorities are:

Invitational Priority 1.

The Secretary invites applicants from eligible public telecommunications entities to create curriculum-based educational television and digital media targeted at children ages 2-8, especially low-income and/or educationally disadvantaged children and including children with disabilities, or subsets thereof, for use in the home, on the go, or in informal or non-traditional learning spaces, that—

(a) Focuses on literacy content in ways that go beyond vocabulary and basic reading skills to include functional literacy, use of language in contexts, and other areas reflective of current literacy frameworks and research; and

(b) Promotes parent engagement and intergenerational learning, and creates bridges between children's digital play and real-world activities.

Applicants are encouraged to conduct and disseminate research on the learning effectiveness of television and media, and to use analytics to study which media elements or design decisions most influence learning.

Invitational Priority 2.

The Secretary invites applications from eligible public telecommunications entities to create curriculum-based educational television and digital media targeted at children ages 2-8, especially low-income and/or educationally disadvantaged children and including children with disabilities, or subsets thereof, for use in the home, on the go, or in informal or non-traditional learning spaces, that—

(a) Focuses on content that meets young children's developmental needs and exposes them to future career and workforce options, including the education, skills, and age-appropriate tools needed for those career or workforce options that are now or will likely be in demand when these children enter the workforce; and

(b) Promotes parent engagement and intergenerational learning, and creates bridges between children's digital play and real-world activities.

Applicants are encouraged to conduct and disseminate research on the learning effectiveness of television and media, and to use analytics to study which media elements or design decisions most influence learning.

Note: The media produced using Ready to Learn funds must comply with 16 CFR part 312, the Children's Online Privacy Protection Rule, which protects children under the age of 13 from unfair or deceptive use of personal information. This rule can be found at: www.ecfr.gov/cgi-bin/text-idx?SID=4939e77c77a1a1a08c1cbf905fc4b409&node=16%3A1.0.1.3.36&rgn=div5.

Definitions: The following definitions apply to this competition. The definitions of Experimental study, Quasi-experimental design study, and What Works Clearinghouse Handbook (WWC Handbook) are from 34 CFR 77.1. We are establishing the definition of “public telecommunications entity” for the FY 2020 grant competition, and any subsequent year in which we make awards from the list of unfunded applications from this competition, in accordance with section 437(d)(1) of GEPA, 20 U.S.C. 1232(d)(1).

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbook: (i) A randomized controlled trial employs random assignment of, for example, students, teachers, classrooms, or schools to receive the project component being evaluated (the treatment group) or not to receive the project component (the control group); (ii) A regression discontinuity design study assigns the project component being evaluated using a measured variable (e.g., assigning students reading below a cutoff score to tutoring or developmental education classes) and controls for that variable in the analysis of outcomes; and (iii) A single-case design study uses observations of a single case (e.g., a student eligible for a behavioral intervention) over time in the absence and presence of a controlled treatment manipulation to determine whether the outcome is systematically related to the treatment.

Public telecommunications entity means any enterprise which (a) is a public broadcast station or a noncommercial telecommunications entity; and (b) disseminates public telecommunications services to the public.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbook.

What Works Clearinghouse Handbook (WWC Handbook) means the standards and procedures set forth in the WWC Procedures and Standards Handbook, Version 3.0 or Version 2.1 (incorporated by reference, see 34 CFR 77.2). Study findings eligible for review under WWC standards can meet WWC standards without reservations, meet WWC standards with reservations, or not meet WWC standards. WWC practice guides and intervention reports include findings from systematic reviews of evidence as described in the Handbook documentation.

Note: The What Works Clearinghouse Procedures and Standards Handbook (Version 3.0), as well as the more recent What Works Clearinghouse Handbooks released in October 2017 (Version 4.0) and January 2020 (Version 4.1), are all available at https://ies.ed.gov/ncee/wwc/Handbooks.

Program Authority: 20 U.S.C. 7293.

Applicable Regulations: (a) The Education Department General Administrative Regulations in 34 CFR parts 75, 77, 79, 81, 82, 84, 86, 97, 98, and 99. (b) The OMB Guidelines to Agencies on Governmentwide Debarment and Suspension (Non-procurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The open licensing requirement in 2 CFR 3474.20 does not apply to this program.

Waiver of Proposed Rulemaking: Under the Administrative Procedure Act (5 U.S.C. 553), the Department generally offers interested parties the opportunity to comment on proposed definitions. Section 437(d)(1) of GEPA, however, allows the Secretary to exempt from rulemaking requirements regulations governing the first grant competition under a new or substantially revised program authority. This is the first grant competition for this program under section 4643 of Title IV of the ESEA, 20 U.S.C. 7293 and therefore qualifies for this exemption. In order to ensure timely grant awards, the Secretary has decided to forgo public comment on the definition under section 437(d)(1) of GEPA. This definition will apply to the FY 2020 grant competition and any subsequent year in which we make awards from the list of unfunded applications from this competition.

II. Award Information

Type of Award: Cooperative agreements.

Estimated Available Funds: $28,750,000 for FY 2020.

Contingent upon the availability of funds and the quality of applications, we may make additional awards in FY 2021 from the list of unfunded applications from this competition.

Estimated Range of Awards: $6,000,000-$12,000,000 for the first year of the project. Funding for the second, third, fourth, and fifth years is subject to availability of funds and the approval of continuation awards (see 34 CFR 75.253).

Estimated Average Size of Awards: $9,000,000 for the first year of the project; $45,000,000 over five years.

Estimated Number of Awards: 2 to 3.

Note: The Department is not bound by any estimates in this notice.

Project Period: Up to 60 months.

III. Eligibility Information

1. Eligible Applicants: To receive a cooperative agreement under this competition, an entity must be a public telecommunications entity that is able to demonstrate—

(a) A capacity for the development and national distribution of educational and instructional television programming of high quality that is accessible by a large majority of disadvantaged preschool and elementary school children;

(b) A capacity to contract with the producers of children's television programming for the purpose of developing educational television programming of high quality;

(c) A capacity, consistent with the entity's mission and nonprofit nature, to negotiate such contracts in a manner that returns to the entity an appropriate share of any ancillary income from sales of any program-related products; and

(d) A capacity to localize programming and materials to meet specific State and local needs and to provide educational outreach at the local level.

Note: If two or more public telecommunications entities wish to form a consortium and jointly submit a single application, they must follow the procedures for group applications described in 34 CFR 75.127 through 75.129.

2. Cost Sharing or Matching: This competition does not require cost sharing or matching.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contains requirements and information on how to submit an application.

2. Submission of Proprietary Information: Given the types of projects that may be proposed in applications for Ready to Learn, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this program.

4. Funding Restrictions: We reference regulations outlining funding restrictions in the Program Requirements section of this notice.

5. Recommended Page Limit: The application narrative is where you, the applicant, address the selection criteria that reviewers use to evaluation your application. We recommend that you (1) limit the application narrative (Part III) to no more than 50 pages and (2) use the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, or the letters of support. However, the recommended page limit does apply to all of the application narrative.

6. Notice of Intent to Apply: We will be able to develop a more efficient process for reviewing grant applications if we have a better understanding of the number of public telecommunications entities that intend to apply for funding under this program. Therefore, we strongly encourage each potential applicant to notify the Department by sending a short email message indicating the applicant's intent to submit an application for funding. The email should indicate the invitational priority to be addressed, if any, and the subject matter focus of the application. The email should be addressed to readytolearn@ed.gov. Applicants may also fill out a brief letter of intent to apply form on the Ready to Learn website. Applicants that do not provide this email notification or fill out the form may still apply for funding.

V. Application Review Information

1. Selection Criteria: The selection criteria for Ready to Learn are from 34 CFR 75.210.

The points assigned to each criterion are indicated in the parentheses next to the criterion. An applicant may earn up to a total of 100 points based on its responses to the selection criteria.

Note: An applicant must provide in the project narrative section of its application information about how its proposed project addresses the selection criteria. In responding to the selection criteria, applicants should keep in mind that peer reviewers may consider only the information provided in the written application when scoring and commenting on the application.

A. Significance (10 points)

The Secretary considers the significance of the proposed project. In determining the significance of the proposed project, the Secretary considers the following factors:

(i) The extent to which the proposed project will provide services or otherwise address the needs of students at risk of educational failure.

(ii) The extent to which the proposed project involves the development or demonstration of promising new strategies that build on, or are alternatives to, existing strategies.

(iii) The extent to which the services to be provided by the proposed project involve the collaboration of appropriate partners for maximizing the effectiveness of project services.

B. Quality of the Project Design (25 points)

The Secretary considers the quality of the design of the proposed project. In determining the quality of the design of the proposed project, the Secretary considers the following factors:

(i) The extent to which the proposed project represents an exceptional approach for meeting statutory purposes and requirements.

(ii) The extent to which the goals, objectives, and outcomes to be achieved by the proposed project are clearly specified and measurable.

(iii) The extent to which the proposed development efforts include adequate quality controls and, as appropriate, repeated testing of products.

Note: In responding to the Quality of the Project Design selection criterion, an applicant should include a detailed description of its proposal to develop and disseminate media and conduct outreach, as described in section 4643(a)(1)(B)(i) through (v) of the ESEA.

C. Strategy to Scale (25 points)

The Secretary considers the applicant's strategy to scale the proposed project. In determining the applicant's capacity to scale the proposed project, the Secretary considers the following factors:

(i) The applicant's capacity (e.g., in terms of qualified personnel, financial resources, or management capacity) to further develop and bring to scale the proposed process, product, strategy, or practice, or to work with others to ensure that the proposed process, product, strategy, or practice can be further developed and brought to scale, based on the findings of the proposed project.

(ii) The likely utility of the products (such as information, materials, processes, or techniques) that will result from the proposed project, including the potential for their being used effectively in a variety of other settings.

D. Quality of the Management Plan (20 points)

The Secretary considers the quality of the management plan for the proposed project. In determining the quality of the management plan for the proposed project, the Secretary considers the following factors:

(i) The adequacy of the management plan to achieve the objectives of the proposed project on time and within budget, including clearly defined responsibilities, timelines, and milestones for accomplishing project tasks.

(ii) The qualifications, including relevant training and experience, of key project personnel.

(iii) The relevance and demonstrated commitment of each partner in the proposed project to the implementation and success of the project.

E. Quality of the Project Evaluation (20 points)

The Secretary considers the quality of the evaluation to be conducted of the proposed project. In determining the quality of the evaluation, the Secretary considers the following factors:

(i) The extent to which the methods of evaluation include the use of objective performance measures that are clearly related to the intended outcomes of the project and will produce quantitative and qualitative data to the extent possible.

(ii) The extent to which the methods of evaluation will provide timely guidance for quality assurance.

(iii) The extent to which the methods of evaluation will, if well implemented, produce evidence about the project's effectiveness that would meet the What Works Clearinghouse standards with or without reservations as described in the What Works Clearinghouse Handbook (as defined in 34 CFR 77.1(c)).

Note: We encourage applicants to review the WWC Procedures and Standards Handbook for technical assistance on evaluation: https://ies.ed.gov/ncee/wwc/Handbooks.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Before making awards, we will screen applications submitted in accordance with the requirements in this notice to determine whether applications have met eligibility and other requirements. This screening process may occur at various stages of the process; applicants that are determined to be ineligible will not receive a grant, regardless of peer reviewer scores or comments.

We will use independent peer reviewers with varied backgrounds and professions, such as experts in science or literacy education, early learning, media production and distribution, educational game development, educational technology, community-based outreach, or educational research and evaluation. All reviewers will be thoroughly screened for conflicts of interest to ensure a fair and competitive review process. Peer reviewers will read, prepare a written evaluation, and score the assigned applications, using the selection criteria provided in this notice.

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR 200, Appendix XII, require you to report certain integrity information to FAPIIS semiannually. Please review the requirements in 2 CFR 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The Department has established four performance measures for Ready to Learn. These measures constitute the Department's indicators of success for the program. Consequently, we advise an applicant for a grant under this program to give careful consideration to these measures in conceptualizing the approach and evaluation for its proposed project. Each grantee will be required to provide, in its annual performance reports and in its final report, data about its progress in meeting these measures.

There are four Government Performance and Results Act of 1993 (GPRA) performance measures for Ready to Learn:

• The percentage of summative experimental or quasi-experimental research studies that demonstrate positive and statistically significant learning gains when Ready to Learn transmedia properties are compared to similar non-Ready to Learn-funded digital properties or to other more traditional educational materials.

Note: Although this GPRA measure tracks the results of all of the experimental or quasi-experimental design studies produced under Ready to Learn, applicants should take note that, under the selection criteria, applications are evaluated on the extent to which they propose methods of evaluation that will, if well implemented, produce evidence about the project's effectiveness that meets What Works Clearinghouse standards with or without reservations as defined in the What Works Clearinghouse Handbook (as defined in this notice).

• The number of children who annually use Ready to Learn produced educational media products, disaggregated by individual product, as determined by appropriate industry standard metrics or, when available, by tracking tools.

• The percentage of educational “transmedia products,” along with necessary supporting materials, that are deemed to be of high quality in promoting learning by an independent panel of expert reviewers.

Note: The Department will convene expert panels in years three and five to review grantee-produced products. Applicants should include in their budget funds for two individuals in these years to spend two days in Washington, DC to attend these panel meetings and to demonstrate the identified products to reviewers.

• Dollars leveraged from non-Federal sources per Federal dollar dedicated to core non-outreach and non-research program activities.

5. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Frank T. Brogan,
Assistant Secretary for Elementary and Secondary Education.

[FR Doc. 2020-05357 Filed 3-13-20; 8:45 am]

BILLING CODE 4000-01-P